DEPARTMENT OF AGRICULTURE

Rural Utilities Service

[Docket No. RUS-21-SFH-0007]

Notice of Request for Revision of a Currently Approved Information Collection; Comments Requested

AGENCY: Rural Utilities Service, USDA.

ACTION: Notice and request for comments.

SUMMARY: In accordance with the Paperwork Reduction Act of 1995, the Rural Utilities Service (RUS) invites comments on this information collection for which RUS intends to request approval from the Office of Management and Budget (OMB).

DATES: Comments on this notice must be received by November 16, 2021.

FOR FURTHER INFORMATION CONTACT: Arlette Mussington, Management Analyst, Rural Development Innovation Center—Regulations Management Division, USDA, 1400 Independence Avenue SW, Room 4227, South Building, Washington, DC 20250-1522. Telephone: (202)720-2825. Email arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for revision.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to https://www.regulations.gov and, in the “Search” box, type in the Docket No. RUS-21-SFH-0007. A link to the Notice will appear. You may submit a comment here by selecting the “Comment” button or you can access the “Docket” tab, select the “Notice,” and go to the “Browse & Comment on Documents” Tab. Here you may view comments that have been submitted as well as submit a comment. Information on using Regulations.gov, including instructions for accessing documents, submitting comments, and viewing the docket after the close of the comment period, is available through the site's “FAQ” link at the bottom. Comments on this information collection must be received by November 16, 2021.

Title: Substantially Underserved Trust Areas.

OMB Control Number: 0572-0147.

Expiration Date of Approval: February 28, 2022.

Type of Request: Revision of a currently approved information collection.

Abstract: The RUS provides loan, loan guarantee, and grant programs for rural electric, water and waste, and telecommunications and broadband infrastructure. The SUTA initiative gives the Secretary of Agriculture certain discretionary authorities relating to financial assistance terms and conditions that can enhance the financing possibilities in areas that are underserved by certain RUS electric, water and waste, and telecommunications and broadband programs.

The Water and Environmental Programs (WEP), division of RUS, provides low-income communities that face significant health risks, access to safe, reliable drinking water and waste disposal facilities services. Safe drinking water and sanitary waste disposal systems are vital not only to public health, but also to the economic vitality of rural America. Rural Development is a leader in helping rural America improve the quality of life and increase the economic opportunities for rural people. Under 7 CFR 1777, Section 306C, WEP provides funding for the construction of water and waste facilities in rural communities and is proud to be the only Federal program exclusively focused on rural water and waste infrastructure needs of rural communities with populations of 10,000 or less. WEP also provides funding to organizations that provide technical assistance and training to rural communities in relation to their water and waste activities, and is administered through National Office staff in Washington, DC, and a network of field staff in each State.

The Electric Program makes insured loans and loan guarantees to nonprofit and cooperative associations, public bodies, and other utilities. Insured loans primarily finance the construction of electric distribution facilities in rural areas. The guaranteed loan program has been expanded and is now available to finance generation, transmission, and distribution facilities. The loans and loan guarantees finance the construction of electric distribution, transmission, and generation facilities, including system improvements and replacement required to furnish and improve electric service in rural areas, as well as demand side management, energy conservation programs, and on-grid and off-grid renewable energy systems. The loans and loan guarantees finance the construction of electric distribution, transmission, and generation facilities, including system improvements and replacement required to furnish and improve electric service in rural areas, as well as demand side management, energy efficiency and conservation programs, and on-grid and off-grid renewable energy systems. Loans are made to cooperatives as well as to corporations, states, territories and subdivisions and agencies such as municipalities, people's utility districts, and nonprofit, limited-dividend, or mutual associations that provide retail electric service needs to rural areas or supply the power needs of distribution borrowers in rural areas.

The Telecom Program provides funding for the deployment of rural telecommunications infrastructure. Funding includes loans and loan guarantees as well as grants to eligible for-profit and non-profit entities, tribes, municipalities, and cooperatives. Investments in tribal and economically, disadvantaged areas are typically encouraged. Funds are available through several different programs to help rural communities extend access where broadband service is least likely to be commercially available. Each program has different applicant and project eligibility requirements and program objectives. Once funds are awarded, Rural Development monitors the projects to make sure they are completed, meet all program requirements, and are making efficient use of federal resources. The Telecom Program maintains staff of General Field Representatives (GFRs) locally for any technically assistance will be required nationwide. GFRs are an integral part of our outreach delivery system. GFRs meet regularly with awardees at the awardee's locations. GFRs serve as the local information resources for the awardees and headquarters staff. They keep awardees current on issues that profoundly impact their business.

The data covered by this collection of information are those materials necessary to allow the agency to determine applicant and community eligibility and an explanation and documentation of the high need for the benefits of the SUTA provisions. Program specific application materials, which funds are being applied for, are covered by the information collection package for the specific RUS program.

Estimate of Burden: Public reporting burden for this collection of information is estimated to average 30 hours per response.

Estimated Number of Respondents: 2.

Estimated Number of Responses per Respondent: 2.

Estimated Total Annual Burden on Respondents: 60.

Copies of this information collection can be obtained from Arlette Mussington, Innovation Center—Regulations Management Division, at (202) 720-2825. Email: arlette.mussington@usda.gov.

All responses to this notice will be summarized and included in the request for OMB approval. All comments will also become a matter of public record.

Christopher A. McLean,
Acting Administrator, Rural Utilities Service.

[FR Doc. 2021-20104 Filed 9-16-21; 8:45 am]

BILLING CODE P